DEPARTMENT OF ENERGY

Federal Energy Regulatory Commission

Notice of Application Tendered for Filing With the Commission, Solicitation of Additional Study Requests, and Establishing Procedures for Relicensing and a Deadline for Submission of Final Amendments

May 3, 2002.

Take notice that the following hydroelectric application has been filed with the Commission and is available for public inspection.

a. Type of Application: New Major License.

b. Project No.: 2574-032.

c. Date Filed: April 29, 2002.

d. Applicant: Merimil Limited Partnership.

e. Name of Project: Lockwood Project.

f. Location: On the Kennebec River in Kennebec County, near City of Waterville and Town of Winslow, Maine. The project does not affect federal lands.

g. Filed Pursuant to: Federal Power Act 16 U.S.C. 791 (a)-825(r).

h. Applicant Contact: Mr. F. Allen Wiley, Kennebec Hydro Resources Inc., c/o FPL Energy Maine Hydro, LLC, 150 Main Street, Lewiston, ME 04240, (207) 795-1342.

i. FERC Contact: David Turner, (202) 219-2844 or david.turner@ferc.gov.

j. Cooperating agencies: We are asking Federal, state, local, and tribal agencies with jurisdiction and/or special expertise with respect to environmental issues to cooperate with us in the preparation of the environmental document. Agencies who would like to request cooperating status should follow the instructions for filing comments described in item k below.

k. Deadline for filing additional study requests and requests for cooperating agency status: June 28, 2002.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests and requests for cooperating agency status may be filed electronically via the Internet in lieu of paper. See 18 CFR 385.2001(a)(1)(iii) and the instructions on the Commission's Web site (http://www.ferc.gov) under the “e-Filing” link.

l. This application is not ready for environmental analysis at this time.

m. The existing Lockwood Project consists of: (1) A 1,300-foot-long concrete gravity dam, consisting of three spillway sections, a small island, and the forebay headworks; (2) 450-foot-long forebay; (3) a 81.5-acre reservoir; (3) two powerhouses, one containing six vertical Francis type turbines and the second containing one horizontal variable pitch kaplan turbine, for a total installed capacity of 7,250 kilowatts; (4) about 4,225 feet of buried and overhead transmission lines; and (5) appurtenant facilities. The project is estimated to generate an average of 30,911 megawatthours annually.

n. A copy of the application is on file with the Commission and is available for public inspection. This filing may also be viewed on the Web at http://www.ferc.gov using the “RIMS” link—select “Docket #” and follow the instructions (call 202-208-2222 for assistance). A copy is also available for inspection and reproduction at the address in item h above.

o. With this notice, we are initiating consultation with the MAINE STATE HISTORIC PRESERVATION OFFICER (SHPO), as required by § 106, National Historic Preservation Act, and the regulations of the Advisory Council on Historic Preservation, 36 CFR 800.4.

p. Procedural schedule and final amendments: The application will be processed according to the following milestones, some of which may be combined to expedite processing:

Notice of application has been accepted for filing

Notice of NEPA Scoping (unless scoping has already occurred)

Notice of application is ready for environmental analysis

Notice of the availability of the draft NEPA document

Notice of the availability of the final NEPA document

Order issuing the Commission's decision on the application

Final amendments to the application must be filed with the Commission no later than 30 days from the issuance date of the notice of ready for environmental analysis.

Magalie R. Salas,
Secretary.

[FR Doc. 02-11598 Filed 5-8-02; 8:45 am]

BILLING CODE 6717-01-P